DEPARTMENT OF TRANSPORTATION

Federal Aviation Administration

[Docket No. FAA-2019-0153]

Recommendations for Facilities Realignments To Support Transition to NextGen as Part of Section 804 of the FAA Modernization and Reform Act of 2012—Parts 4 & 5; Request for Comments

AGENCY: Federal Aviation Administration (FAA), Department of Transportation (DOT).

ACTION: Notice of availability; request for comments.

SUMMARY: This document announces the availability of the FAA National Facilities Realignment and Consolidation Report, Parts 4 & 5. The report was developed in response to Section 804 of the FAA Modernization and Reform Act of 2012. The report and recommendations contained therein have been developed collaboratively with the National Air Traffic Controllers Association (NATCA) and the Professional Aviation Safety Specialists (PASS) labor unions and with input from stakeholders. The FAA seeks comments on this report.

DATES: Send comments on or before May 3, 2019.

ADDRESSES: Send comments identified by docket number FAA-2019-0153 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: The FAA will post all comments it receives, without change, to http://www.regulations.gov, including any personal information the commenter provides. Using the search function of the docket website, anyone can find and read the electronic form of all comments received into any FAA dockets, including name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or visit Docket Operations in Room W12-140 of the West Building Ground Floor at 1200 New Jersey Avenue SE, Washington, DC, between 9 a.m. and 5 p.m., Monday through Friday, except Federal holidays.

FOR FURTHER INFORMATION CONTACT: William Middleswart, Federal Aviation Administration, 800 Independence Avenue SW, Washington, DC 20591; email: Section804-Public-Comments@faa.gov.

SUPPLEMENTARY INFORMATION:

Background

Section 804 of the FAA Modernization and Reform Act of 2012 (Pub. L. 112-95) requires the FAA to develop a plan for realigning and consolidating facilities in an effort to support the transition to NextGen and reduce costs where such cost reductions can be implemented without adversely affecting safety. To address Section 804 requirements, the FAA formed a collaborative workgroup of representatives from the FAA and NATCA and PASS labor unions to develop a comprehensive process to analyze different realignment and consolidation scenarios. The collaborative process takes into account the following factors and criteria when prioritizing facilities for realignment analysis: NextGen readiness; operational and airspace factors; existing facility conditions and workforce impacts; industry stakeholder input; costs and benefits associated with each potential realignment alternative; facilities and engineering planning and priorities; and employee career development.

The collaborative workgroup developed the guiding principles and criteria for evaluating existing Terminal Radar Approach Control (TRACON) operations. The principles support the goals of developing operationally viable realignment and consolidation scenarios, capturing recommendations, and outlining next steps. The workgroup has developed a repeatable and defensible process to evaluate facility TRACON operations and prioritize for analysis; determine an initial set of realignment scenarios and a set of alternatives for each scenario; collect facility and operational data and document system requirements; document facility, equipment, infrastructure, operational and safety data; capture qualitative workforce considerations, including training, transition, facility, and potential workforce impacts of potential realignments; consider potential impacts on operations, airspace modifications, route/fixes changes, arrival/departure procedures, intra/inter-facility coordination, and pilot community interaction; collect and consider industry stakeholder input; quantify benefits and cost of potential realignments; and develop a recommendation for each realignment scenario.¹ A copy of the National Facilities Realignment and Consolidation Report, Parts 4 & 5 has been placed in the docket for this notice. The docket may be accessed at http://www.regulations.gov. A copy of the report has also been made available on the FAA's website at http://www.faa.gov/regulations_policies/rulemaking/recently_published/.

¹ The National Facilities Realignment and Consolidation Report, Part 1 was published in the Federal Register on March 26, 2015 (80 FR 16078) (docket no.: FAA-2015-0693). The National Facilities Realignment and Consolidation Report, Part 2 was published in the Federal Register on June 7, 2016 (81 FR 36650) (docket no.: FAA-2016-4000). The National Facilities Realignment and Consolidation Report, Part 3 was published in the Federal Register on July 17, 2017 (82 FR 32750) (docket no.: FAA-2017-0706).

The realignment recommendations outlined in the National Facilities Realignment and Consolidation Report, Parts 4 & 5 are the result of a collaborative process that involved a multi-disciplinary team of FAA management, labor, field facilities, finance, and subject matter experts. The Section 804 process serves as a stable foundation for future realignment analyses and recommendations. The process aims to maximize operational, administrative, and maintenance efficiencies, support transition to NextGen, and deliver the highest value to stakeholders.

The FAA is requesting comments on this report pursuant to Section 804 of the FAA Modernization and Reform Act of 2012. The agency will consider all comments received on or before May 3, 2019. Following a 60-day comment review period, the final report along with public comments will be submitted to Congress. The FAA continues to analyze data collected from facilities across the United States and evaluate possible realignment scenarios.

Issued in Washington, DC, on March 7, 2019.
William Middleswart,
Section 804 Analysis Program Manager, Management Services, Federal Aviation Administration.

[FR Doc. 2019-05165 Filed 3-18-19; 8:45 am]

BILLING CODE 4910-13-P